DEPARTMENT OF COMMERCE

International Trade Administration

[A-337-803]

Fresh Atlantic Salmon From Chile: Notice of Partial Rescission of Antidumping Duty Administrative Review

AGENCY: Import Administration, International Trade Administration, Department of Commerce.

SUMMARY: In response to requests by certain producers/exporters of subject merchandise and by L.R. Enterprises, Inc., a domestic producer of subject merchandise, the Department of Commerce (the Department) is conducting an administrative review of the antidumping duty order on fresh Atlantic salmon from Chile for the period of review July 1, 2001, through June 30, 2002. We are now rescinding this review with respect to 72 companies for which L.R. Enterprises, Inc., withdrew its request for an administrative review.

EFFECTIVE DATE: December 12, 2002.

FOR FURTHER INFORMATION CONTACT: Constance Handley or Carol Henninger, at (202) 482-0631 or (202) 482-3003, respectively; AD/CVD Enforcement, Office V, Group II, Import Administration, International Trade Administration, U.S. Department of Commerce, 14th Street & Constitution Avenue, NW., Washington, DC 20230.

SUPPLEMENTARY INFORMATION:

Applicable Statute and Regulations

Unless otherwise indicated, all citations to the Tariff Act of 1930, as amended (the Act), are references to the provisions effective January 1, 1995, the effective date of the amendments made to the Act by the Uruguay Round Agreements Act. In addition, unless otherwise indicated, all citations to the Department's regulations are to 19 CFR Part 351 (2002).

Background

On July 1, 2002, the Department issued a notice of opportunity to request the fourth administrative review of this order. See Antidumping or Countervailing Duty Order, Finding, or Suspended Investigation; Opportunity to Request Administrative Review, 67 FR 44172 (July 1, 2002). On July 31, 2002, in accordance with 19 CFR 351.213(b), L.R. Enterprises, Inc., requested a review of 90 producers/exporters of fresh Atlantic salmon. Also, on July 31, 2002, Cultivos Marinos Chiloe Ltda. (Cultivos Marinos), Pesquera Eicosal Ltda. (Eicosal), Cultivadora de Salmones Linao Ltda. (Linao), Salmones Tecmar S.A. (Tecmar), Fiordo Blanco S.A. (Fiordo Blanco), Salmones Friosur S.A. (Friosur), Salmones Mainstream S.A. (Mainstream), Marine Harvest Chile S.A. (Marine Harvest), Salmones Multiexport Ltda. (Multiexport), Salmones Pacifico Sur S.A. (Pacifico Sur), Pesca Chile S.A. (Pesca Chile), and Salmones Pacific Star Ltda. (Pacific Star) each requested its own review. L.R. Enterprises had requested a review of each of these companies.

On August 27, 2002, the Department published the notice of initiation of this antidumping duty administrative review, covering the period July 1, 2001, through June 30, 2002. See Initiation of Antidumping and Countervailing Duty Administrative Reviews and Requests for Revocation in Part, 67 FR 55000 (August 27, 2002).

On September 5, 2002, L. R. Enterprises, Inc., withdrew its review request for all companies except: (1) Asesoria Acuicola S.A.; (2) Best Salmon/Skyring Salmon S.A.; (3) Cultivos Marinos; (4) Cultivos Yadran S.A.; (5) Eicosal; (6) Friosur/Pesquera Friosur; (7) Invertec Pesquera Mar de Chiloe Ltda. (Invertec); (8) Linao/Salmoamerica; (9) Mainstream; (10) Marine Harvest; (11) Multiexport; (12) Ocean Horizons; (13) Pacific Star; (14) Pacifico Sur/Aquachile S.A.; (15) Pesca Chile; (16) Pesquera Los Fiordos Ltda. (Los Fiordos); (17) Robinson Crusoe Y Cia. Ltda. (Robinson Crusoe); and (18) Tecmar/Fjord Seafood Chile.

Subsequently, on September 25, October 18, 22, and November 25, 2002, L.R. Enterprises, Inc., withdrew its request that the Department conduct an administrative review of Pacific Star, Robinson Crusoe, Asesoria Acuicola S.A., Marine Harvest, and Los Fiordos respectively. Fiordo Blanco, Pacific Star, and Marine Harvest, which had each requested its own review on July 31, 2002, subsequently withdrew their requests on September 6, 27, and October 24, 2002, respectively.

Partial Rescission of Antidumping Duty Administrative Review

By its letters of September 5, 25, October 18, 22, and November 25, 2002, L.R. Enterprises, Inc., withdrew its request for an administrative review of the following companies:

Acuicultura de Aquas Australes

Agromar Ltda.

Aguas Claras S.A.

Antarfish S.A.

Aquasur Fisheries Ltda.

Asesoria Acuicola S.A.

Australis S.A.

Cenculmavique

Centro de Cultivo de Moluscos

Cerro Farrellon Ltda.

Chile Cultivos S.A.

Chisal S.A.

Comercializadora Smoltech Ltda.

Complejo Piscicola Coyhaique

Cultivos San Juan

Empresa Nichiro Chile Ltda.

Fiordo Blanco S.A.

Fisher Farms

Fitz Roy S.A.

Friosur S.A.

Ganadera Del Mar

Gentec S.A.

Granja Maria Torna Galeones S.A.

Hiuto Salmones S.A.

Huitosal Mares Australes Salmo Pac.

Instituto Tecnologico Del Salmon S.A.

Inversiones Pacific Star Ltda.

Los Fiordos Ltda.

Manao Bay Fishery S.A.

Mardim Ltda.

Marine Harvest Chile S.A.

Pacific Mariculture

Patagonia Fish Farming S.A.

Patagonia Salmon Farming S.A.

Pesquera Antares S.A.

Pesquera Chiloe S.A.

Pesquera Los Fiordos Ltda.

Pesquera Mares de Chile S.A.

Pesquera Pacific Star

Pesquera Quellon Ltda.

Pesquera Y Comercial Rio Peulla S.A.

Piscicola Entre Rios S.A.

Piscicultura Iculpe

Piscicultura La Cascada

Piscultura Santa Margarita

Productos Del Mar Ventisqueros S.A.

Prosmolt S.A.

Quetro S.A.

River Salmon S.A.

Robinson Crusoe Y Cia. Ltda.

Salmones Andes S.A.

Salmones Antarctica S.A.

Salmones Aucar Ltda.

Salmones Caicaen S.A.

Salmones Calbuco S.A.

Salmones Chiloe S.A.

Salmones Huillinco S.A.

Salmones Ice Val Ltda.

Salmones Llanquihue

Salmones Pacific Star Ltda.

Salmones Quellon

Salmones Ranco Sur Ltda.

Salmones Tierra Del Fuego Ltda.

Salmones Unimarc S.A.

Salmosan

Seafine Salmon S.A.

Soc. Agricola Chillehue Ltda.

Soc. Alimentos Maritimos Avalon Ltda.

Soc. Aquacultivos Ltda.

Truchas Aguas Blancas Ltda.

Trusal S.A.

Ventisqueros S.A.

We note that L.R. Enterprises originally requested a review of Salmones Friosur, Pesquera Friosur and Friosur S.A. On September 5, 2002, when L.R. Enterprises withdrew its request for review of a number of companies, “Salmones Friosur” was on the list of companies which L.R. Enterprises wished to remain in the review. We are rescinding the review with respect to Friosur S.A. Salmones Friosur and its affiliate Pesquera Friosur continue to be covered by this review. Information on the record indicates that neither Salmones Friosur nor Pesquera Friosur produce subject merchandise under the name Friosur S.A.

Pursuant to 19 CFR 315.213(d)(1), we are rescinding the administrative review with respect to each of the above listed companies. With the exception of Marine Harvest, which is currently involved in litigation,¹ the Department will issue appropriate assessment instructions to the U.S. Customs Service within 15 days of publication of this notice.

¹ See Marine Harvest (Chile) S.A. v. United States, Court No. 01-00808, November 21, 2002.

This notice is issued and published in accordance with section 751 of the Act and 19 CFR 351.213(d)(4).

Dated: December 6, 2002.
Bernard T. Carreau,
Deputy Assistant Secretary for Import Administration.

[FR Doc. 02-31376 Filed 12-11-02; 8:45 am]

BILLING CODE 3510-DS-P